DEPARTMENT OF LABOR

Employment and Training Administration

[TA-W-36,633 and TA-W-36,633AA]

Levi Strauss & Company, Wichita Falls Plant, Wichita Falls, Texas; Levi Strauss & Company, Walnut Creek Road Office, Walnut Creek, California; Amended Certification Regarding Eligibility to Apply for Worker Adjustment Assistance

In accordance with Section 223 of the Trade Act of 1974 (19 U.S.C. 2273) the Department of Labor issued a Certification of Eligibility to Apply for Worker Adjustment Assistance on August 11, 1999, applicable to workers of Levi Strauss & Company, Wichita Falls Plant, Wichita Falls, Texas. The notice was published in the Federal Register on September 29, 1999 (64 FR 52541). The certification document was amended several times to include numerous facilities located at various locations.

At the request of the company, the Department reviewed the certification for workers of the subject firm. The workers are engaged in the production of denim and Docker apparel. The company reports that worker separations occurred at the Walnut Creek Road Office of Levi Strauss located in Walnut Creek, California. The Walnut Creek Road Office is a satellite office of the subject firms' headquarters located in San Francisco, California and directly supports Levi Strauss's many production facilities.

The intent of the Department's certification is to include all workers of Levi Strauss & Company adversely affected by increased imports. Accordingly, the Department is amending the certification to include workers of Levi Strauss & Company, Walnut Creek Road Office, Walnut Creek, California.

The amended notice applicable to TA-W-36,633 is hereby issued as follows:

All workers of Levi Strauss & Company, Wichita Falls Plant, Wichita Falls, Texas (TA-W-36,633) and Walnut Creek Road Office, Walnut Creek, California (TA-W-36,633AA) who became totally or partially separated from employment on or after August 8, 1999 through August 11, 2001 are eligible to apply for adjustment assistance under Section 223 of the Trade Act of 1974.

Signed in Washington, D.C. this 19th day of October, 2000.
Linda G. Poole,
Certifying Officer, Division of Trade Adjustment Assistance.

[FR Doc. 00-28026 Filed 10-31-00; 8:45 am]

BILLING CODE 4510-30-M